DEPARTMENT OF ENERGY

Federal Energy Regulatory Commission

Combined Notice of Filings #1

Take notice that the Commission received the following electric corporate filings:

Docket Numbers: EC14-92-000.

Applicants: Buffalo Dunes Wind Project, LLC.

Description: Application for Authorization Under Section 203 of the Federal Power Act, Request for Shortened Notice Period, Expedited Consideration and Confidential Treatment of Buffalo Dunes Wind Project, LLC.

Filed Date: 5/27/14.

Accession Number: 20140527-5143.

Comments Due: 5 p.m. ET 6/17/14.

Docket Numbers: EC14-93-000.

Applicants: MACH Gen, LLC, New Athens Generating Company, LLC, New Harquahala Generating Company, LLC, Millennium Power Partners, L.P., Solus Alternative Asset Management LP.

Description: Application for Order Authorizing Disposition of Jurisdictional Facilities Under Section 203 of the Federal Power Act and Request for Waivers and Expedited Action of MACH Gen, LLC, et al.

Filed Date: 5/28/14.

Accession Number: 20140528-5050.

Comments Due: 5 p.m. ET 6/18/14.

Take notice that the Commission received the following electric rate filings:

Docket Numbers: ER14-1405-001.

Applicants: PJM Interconnection, L.L.C.

Description: Deficiency Filing per 4/24/2014 Order in Docket No. ER14-1405-000 to be effective 12/31/9998.

Filed Date: 5/27/14.

Accession Number: 20140527-5188.

Comments Due: 5 p.m. ET 6/17/14.

Docket Numbers: ER14-1406-001.

Applicants: Midcontinent Independent System Operator, Inc.

Description: 2014-05-27_MISO-SPP-PJM JOA Amendment Deficiency Response to be effective 6/1/2014.

Filed Date: 5/27/14.

Accession Number: 20140527-5225.

Comments Due: 5 p.m. ET 6/17/14.

Docket Numbers: ER14-1407-001

Applicants: Southwest Power Pool, Inc.

Description: SPP-MISO JOA CMP and Article 19 Revisions Deficiency Response to be effective 12/31/9998.

Filed Date: 5/28/14.

Accession Number: 20140528-5000.

Comments Due: 5 p.m. ET 6/18/14.

Docket Numbers: ER14-1685-001.

Applicants: Duke Energy Florida, Inc.

Description: Joint OATT Real Power Loss Factor Amendment (2014) to be effective 5/1/2014.

Filed Date: 5/28/14.

Accession Number: 20140528-5160.

Comments Due: 5 p.m. ET 6/9/14.

Docket Numbers: ER14-1690-001; ER11-3216-001; ER11-3218-001; ER11-3219-001; ER11-3215-001.

Applicants: Monterey SW LLC, Monterey MA LLC, Monterey NY LLC, Monterey MW LLC, Monterey CA LLC.

Description: Notice of Non-Material Change in Status of the Monterey Companies.

Filed Date: 5/27/14.

Accession Number: 20140527-5261.

Comments Due: 5 p.m. ET 6/17/14.

Docket Numbers: ER14-2047-000.

Applicants: BJ Energy, LLC

Description: Cancellation Tariff to be effective 5/28/2014.

Filed Date: 5/27/14.

Accession Number: 20140527-5167.

Comments Due: 5 p.m. ET 6/17/14.

Docket Numbers: ER14-2048-000.

Applicants: Portland General Electric Company.

Description: PGE11 MBR Revisions to be effective 5/28/2014.

Filed Date: 5/28/14.

Accession Number: 20140528-5001.

Comments Due: 5 p.m. ET 6/18/14.

Docket Numbers: ER14-2049-000.

Applicants: Citizens Sunrise Transmission LLC.

Description: Annual Operating Cost True-Up Adjustment Informational Filing to be effective 6/1/2014.

Filed Date: 5/28/14.

Accession Number: 20140528-5065.

Comments Due: 5 p.m. ET 6/18/14.

Docket Numbers: ER14-2050-000.

Applicants: Select Energy, Inc.

Description: Select Energy, Inc. submits Notice of Cancellation of Wholesale Transition Agreement ? FERC Electric Rate Schedule No. 6.

Filed Date: 5/28/14.

Accession Number: 20140528-5134.

Comments Due: 5 p.m. ET 6/18/14.

Docket Numbers: ER14-2051-000.

Applicants: CED White River Solar, LLC.

Description: Filing of Co-Tenancy and Common Facilities Agreement to be effective 4/28/2014.

Filed Date: 5/28/14.

Accession Number: 20140528-5151.

Comments Due: 5 p.m. ET 6/18/14.

Docket Numbers: ER14-2052-000.

Applicants: Trans-Allegheny Interstate Line Company, PJM Interconnection, L.L.C., West Penn Power Company, The Potomac Edison Company, Pennsylvania Electric Company, Metropolitan Edison Company, Monongahela Power Company.

Description: TrAILCo, et al. submit Original and Revised Svc Agrmnts & Request for Waiver to be effective 6/1/2014.

Filed Date: 5/28/14.

Accession Number: 20140528-5156.

Comments Due: 5 p.m. ET 6/18/14.

Take notice that the Commission received the following public utility holding company filings:

Docket Numbers: PH14-11-000.

Applicants: EDF Renewable Energy, Inc.

Description: EDF Renewable Energy, Inc. submits FERC 65-B Waiver Notification.

Filed Date: 5/28/14.

Accession Number: 20140528-5072.

Comments Due: 5 p.m. ET 6/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 28, 2014.
Nathaniel J. Davis, Sr.,
Deputy Secretary.

[FR Doc. 2014-12959 Filed 6-3-14; 8:45 am]

BILLING CODE 6717-01-P